ENVIRONMENTAL PROTECTION AGENCY

[OPP-00685; FRL-6751-4]

State FIFRA Issues Research and Evaluation Group (SFIREG) Working Committee on Pesticide Operations & Management; Notice of Public Meeting

AGENCY: Environmental Protection Agency (EPA).

ACTION: Notice of public meeting.

SUMMARY: The State FIFRA Issues Research and Evaluation Group (SFIREG) Working Committee on Pesticide Operations & Management will hold a 2-day meeting, beginning on November 2, 2000, and ending on November 3, 2000. This notice announces the location and times for the meeting and sets forth the tentative agenda topics.

DATES: The meeting will be held on Thursday, November 2, 2000 from 8:30 a.m. to 5 p.m. to Friday, November 3, 2000, from 8:30 a.m. to 12:00 noon.

ADDRESSES: The meeting will be held at The Doubletree Hotel, 300 Army Navy Drive, Arlington - Crystal City, VA.

FOR FURTHER INFORMATION CONTACT: Philip H. Gray, SFIREG Executive Secretary, P.O. Box 1249, Hardwick, VT 05843-1249; telephone number: (802) 472-6956; fax: (802) 472-6957; e-mail address: aapco@plainfield.bypass.com or, Georgia A. McDuffie, Field and External Affairs Division (7506C), Office of Pesticide Programs, Environmental Protection Agency, 1200 Pennsylvania Ave., NW., Washington, DC 20460; telephone number: (703) 605-0195; fax number: (703) 308-1850; e-mail address: McDuffie.Georgia@epa.gov.

SUPPLEMENTARY INFORMATION:

I. Does this Action Apply to Me?

This action is directed to the public in general. This action may, however, be of interest to all parties interested in SFIREG's information exchange relationship with EPA regarding important issues related to human health, environmental exposure to pesticides, and insight into EPA's decision-making process are invited and encouraged to attend the meetings and participate as appropriate. Since other entities may also be interested, the Agency has not attempted to describe all the specific entities that may be affected by this action.

If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. Philip H. Gray, SFIREG Executive Secretary, P.O. Box 1249, Hardwick, VT 05843-1239.

III. Tentative Agenda:

Antimicrobial issues, including master label policy, permitted and unacceptable label.

Language, HVAC products, Efficacy testing program, and others.

eCommerce issues.

Phosphine risk mitigation/Improved labeling.

Inspector credentialing/Authorization procedures.

Worker protection standard update.

Field data plan workgroup/Update.

Herbicides used for seed production.

Mosquito control products; Labeling issues.

“Professional Use Only” Type label statements.

Supplemental labeling.

Endangered species protection issues.

Updates from Office of Pesticide Programs and Office of Enforcement and Compliance Monitoring.

List of Subjects

Environmental protection.

Dated: October 11, 2000.
Ken Garvey,
Acting Director, Field and External Affairs Division, Office of Pesticide Programs.

[FR Doc. 00-26639 Filed 10-17-00; 8:45 am]

BILLING CODE 6560-50-S